DEPARTMENT OF THE INTERIOR

National Park Service

[NPS-WASO-NRNHL-24565; PPWOCRADI0, PCU00RP14.R50000]

National Register of Historic Places; Notification of Pending Nominations and Related Actions

AGENCY: National Park Service, Interior.

ACTION: Notice.

SUMMARY: The National Park Service is soliciting comments on the significance of properties nominated before October 21, 2017, for listing or related actions in the National Register of Historic Places.

DATES: Comments should be submitted by November 29, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before October 21, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CONNECTICUT

Tolland County

South Willington Historic District, River Rd., roughly Battye Rd. to Fisher Hill Rd.; Pinney Hill Rd., Village & Center Sts., Willington, SG100001860

FLORIDA

Broward County

North Woodlawn Cemetery, 1936 NW 9th St., Fort Lauderdale, SG100001861

Indian River County

Heiser, Frank and Stella, House, 11055 138th Ave., Fellsmere vicinity, SG100001862

ILLINOIS

Cook County

Kuppenheimer, Louis B., Jr., House, Winnetka, Winnetka, 98000980

OKLAHOMA

Cleveland County

Park Etude, 1028 Connelly Ln., Norman, SG100001864

Kay County

101 Rodeo Arena, 2600 N Ash St., Ponca City, SG100001865

Attucks Community Center, 1001 S 12th St., Ponca City, SG100001866

McGraw, James J., House, 400 N. 4th St., Ponca City, SG100001867

Roosevelt Elementary School, 815 E. Highland Ave., Ponca City, SG100001868

Logan County

Benedictine Heights Hospital, 2000 W. Warner St., Guthrie, SG100001869

Oklahoma County

Richardson, Edward, Building, 101 Main St., Arcadia, SG100001870

Woods County

First Congregational Church, 1887 Cecil St., Waynoka, SG100001871

TEXAS

Comanche County

St. Louis and San Francisco Railway Depot (Frisco Depot), 304 S. Austin St., Comanche, SG100001872

WISCONSIN

Manitowoc County

TUBAL CAIN (barque) Shipwreck, (Great Lakes Shipwreck Sites of Wisconsin MPS), 1.33 mi. NE of Two Rivers harbor entrance in L. Michigan, Two Rivers vicinity, MP100001873

Milwaukee County

GRACE A. CHANNON (canaller) Shipwreck, (Great Lakes Shipwreck Sites of Wisconsin MPS), 12.75 Mi. NE of the Bender Park boat launch in L. Michigan, Oak Creek vicinity, MP100001874

A request to move has been received for the following resource:

ARKANSAS

Faulkner County

Springfield Bridge, CR 222 at Cadron Creek, Springfield vicinity, MV88000660

Additional documentation has been received for the following resource:

MONTANA

Lewis and Clark County

Western Clay Manufacturing Company, 2915 Country Club Rd., Helena, AD85001052

Authority: 60.13 of 36 CFR part 60.

Dated: October 27, 2017.
Christopher Hetzel,
Acting Chief, National Register of Historic Places/National Historic Landmarks Program.

[FR Doc. 2017-24611 Filed 11-13-17; 8:45 am]

BILLING CODE 4312-52-P